Title 3—

The President

Proclamation 8927 of January 18, 2013

Martin Luther King, Jr., Federal Holiday, 2013

By the President of the United States of America

A Proclamation

At a time of deep division nearly 50 years ago, a booming voice for justice rang out across the National Mall, reverberated around our country, and sent ripples throughout the world. Speaking to thousands upon thousands rallying for jobs and freedom, the Reverend Dr. Martin Luther King, Jr., delivered his “I Have a Dream” speech, challenging America to take up the worthy task of perfecting our Union. Today, we celebrate a man whose clarion call stirred our Nation to bridge our differences, and whose legacy still drives us to bend the arc of the moral universe toward justice.

By words and example, Dr. King reminded us that “Change does not roll in on the wheels of inevitability, but comes through continuous struggle.” Throughout the 1950s and 1960s, he mobilized multitudes of men and women to take on a struggle for justice and equality. They braved billy clubs and bomb threats, dogs and fire hoses. For their courage and sacrifice, they earned our country's everlasting gratitude.

A half-century later, the march of progress has brought us closer than ever to achieving Dr. King's dream, but our work is not yet done. Too many young people still grow up in forgotten neighborhoods with persistent violence, underfunded schools, and inadequate health care, holding little hope and few prospects for the future. Too many Americans are denied the full equality and opportunity guaranteed by our founding documents. Today, Dr. King's struggle reminds us that while change can sometimes seem impossible, if we maintain our faith in ourselves and in the possibilities of this Nation, there is no challenge we cannot surmount.

Every year, Americans mark this day by answering Dr. King's call to service. In his memory, let us recall his teaching that “we are caught in an inescapable network of mutuality, tied in a single garment of destiny. Whatever affects one directly, affects all indirectly.” In keeping with Dr. King's example, let us embrace the belief that our destiny is shared, accept our obligations to each other and to future generations, and strengthen the bonds that hold together the most diverse Nation on earth.

NOW, THEREFORE, I, BARACK OBAMA, President of the United States of America, by virtue of the authority vested in me by the Constitution and the laws of the United States, do hereby proclaim January 21, 2013, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this eighteenth day of January, in the year of our Lord two thousand thirteen, and of the Independence of the United States of America the two hundred and thirty-seventh.

[FR Doc. 2013-01636

Filed 1-23-13; 11:15 am]

Billing code 3295-F3